DEPARTMENT OF JUSTICE

Office of Justice Programs

[OJP (OJJDP) Docket No. 1614]

Meeting (Webinar) of the Federal Advisory Committee on Juvenile Justice

AGENCY: Office of Juvenile Justice and Delinquency Prevention, Office of Justice Programs, U.S. Department of Justice.

ACTION: Notice of Webinar Meeting.

SUMMARY: The Office of Juvenile Justice and Delinquency Prevention (OJJDP) announces a meeting of the Federal Advisory Committee on Juvenile Justice (FACJJ).

Dates and Locations: The meeting will take place online, as a webinar, on Monday, August 12, 2013, from 3 to 6 p.m. ET.

FOR FURTHER INFORMATION CONTACT: Kathi Grasso, Designated Federal Official, OJJDP, Kathi.Grasso@usdoj.gov, or (202) 616-7567. [This is not a toll-free number.]

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The agenda will include: (a) Welcome and introductions; (b) remarks from the Administrator; (c) presentation on subcommittee reports; (d) consideration by full Committee of draft FACJJ recommendations; (e) other business; and (f) adjournment.

To participate in or view the webinar meeting, members of the FACJJ and of the public must pre-register online. Members and interested persons must link to the webinar registration portal through www.facjj.org no later than Wednesday, August 7, 2013. Upon registration, information will be sent to you at the email address you provide to enable you to connect to the webinar. Should problems arise with webinar registration, call Michelle Duhart-Tonge at 703-789-4712. [This is not a toll-free telephone number.] Note: Members of the public will be able to listen to and view the webinar as observers, but will not be able to actively participate. An on-site room is available for members of the public interested in viewing the webinar in person. If members of the public wish to view the webinar in person, they must notify Kathi Grasso by email message to Kathi.grasso@usdoj.gov, no later than Monday, August 5, 2013. Please note that most FACJJ members will not be physically present in Washington, DC for the webinar. They will participate in the webinar from their respective home jurisdictions.

Written Comments: Interested parties may submit written comments in advance to Kathi Grasso, Designated Federal Official, by email to Kathi.Grasso@usdoj.gov, no later than Monday, August 5, 2013. Alternatively, fax your comments to 202-307-2819 and call Joyce Mosso Stokes at 202-305-4445 to ensure that they are received. [These are not toll-free numbers.]

Robert L. Listenbee,
Administrator, Office of Juvenile Justice and Delinquency Prevention.

[FR Doc. 2013-17429 Filed 7-19-13; 8:45 am]

BILLING CODE 4410-18-P